DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 86 FR 7725, dated February 2, 2021) is amended to reflect the reorganization of the National Center for Chronic Disease Prevention and Health Promotion, Deputy Director for Non-Infectious Diseases, Centers for Disease Control and Prevention.

Section C-B, Organization and Functions is hereby amended as follows:

Delete in its entirety the titles and mission and function statements for the National Center for Chronic Disease Prevention and Health Promotion (CUC) and insert the following:

National Center for Chronic Disease Prevention and Health Promotion (CUC). The National Center for Chronic Disease Prevention and Health Promotion (NCCDPHP) plans, directs, and coordinates a national program for the prevention of premature mortality, morbidity, and disability due to heart disease, cancer, stroke, diabetes, arthritis, oral disease and other major chronic diseases, conditions, and adverse health outcomes, including reproductive outcomes, and the prevention of associated major risk factors, including tobacco use, poor nutrition, and physical inactivity; and promotes the overall health of the population across the life span, and the health of population subgroups with disproportionate burdens of chronic diseases, conditions and risk factors. In carrying out this mission, the Center: (1) Plans, directs, and supports population-based policy, environmental, programmatic and infrastructure interventions to promote population health and well-being, increase healthy life expectancy, improve quality of life, increase productivity, and reduce health care costs; (2) provides national and international leadership in the development, implementation, evaluation, and dissemination of effective programs for chronic disease prevention, risk factor reduction, and health promotion; (3) plans, develops, implements, maintains and disseminates information for action from surveillance systems to monitor and understand the distribution of chronic diseases and conditions, and risk factors, and take appropriate action to address them; (4) conducts epidemiologic and behavioral investigations and demonstrations related to major health behaviors, including tobacco use, nutrition, family planning, alcohol use, and physical activity in conjunction with state, tribal, local and territorial health agencies, academic institutions, national, state and local partners and community organizations; (5) plans, directs, and conducts epidemiologic and evaluative investigations and interventions to improve health care access, utilization, and quality of health services in order to better prevent and control chronic diseases, conditions, and selected adverse reproductive outcomes, and reduce health risk behaviors; (6) serves as the primary focus for assisting states and localities through grants, cooperative agreements, and other mechanisms, in establishing and maintaining chronic disease prevention and health promotion programs; (7) provides training and technical consultation and assistance to states and localities in planning, establishing, maintaining, and evaluating prevention and control strategies for selected chronic disease and health promotion activities; (8) fosters collaboration and coordination of chronic disease prevention and health promotion activities across the Center by leading and facilitating join planning, consultation, program management and evaluation, and technical assistance to state, tribal, local and territorial partners; (9) provides technical consultation and assistance to other nations in the development and implementation of programs related to chronic disease prevention and health promotion, and selected adverse reproductive outcomes; and (10) in carrying out the above functions, collaborates as appropriate with other CDC components, other U.S. Public Health Service (PHS) agencies, domestic and international public health agencies, and voluntary and professional health organizations.

Office of the Director (CUC1). (1) Manages, directs, coordinates, and evaluates the national and international activities and programs of NCCDPHP; (2) develops goals and objectives and provides leadership, policy formulation, scientific oversight, and guidance in program planning and development; (3) coordinates expert consultation and assistance provided by NCCDPHP to other CDC components, other PHS agencies, and federal, state, tribal, local and territorial government agencies, health care and related organizations, national and international health-related voluntary organizations, employers and businesses, private sector organizations, and other nations, and facilitates collaboration with these entities; (4) provides and coordinates science and administrative support services for NCCDPHP programs, including guidance and coordination for grants, cooperative agreements, and other assistance and acquisition mechanisms; (5) works with programs to implement Center-wide budgets in accordance to operating plans for strategic goals and tactical objectives managing funding for intramural and extramural programs, projects and activities; (6) develops, and executes Center-wide financial planning, budgeting, monitoring, and reporting for end of fiscal year close-out (7) provides support and quality assurance functions for human subjects protection, scientific clearance of information products produced by the Center, and plans, develops, and coordinates extramural research activities in cooperation with centers, divisions, and offices; (8) provides support and coordination for ongoing internal and external review of scientific and programmatic activities and ensures compliance with relevant rules, regulations and guidance documents; (9) coordinates, manages, and supports analyses of surveillance systems and activities in support of programs carried out by various NCCDPHP components; (10) coordinates the recruitment, assignment, technical supervision, and career development of staff, including field assignees, with emphasis on goals for affirmative action; (11) provides technical information services to facilitate dissemination of significant information to NCCDPHP staff, various federal, state, and local health agencies, professional and voluntary organizations, and through them to selected target populations; and (12) supports ongoing publication of Preventing Chronic Disease as a resource for public health professionals.

Office of Public Health Practice (HCUC12). (1) Supports program collaboration and increases effectiveness and efficiency of program efforts; (2) develops goals and objectives and provides leadership, policy formulation, scientific oversight, and guidance in program planning and development; (3) coordinates the Center framework for outcome-based program performance; (4) assesses and strengthens existing staff skills and identifies and addresses gaps in critical leadership, technical, management and administrative workplace needs; (5) oversees and develops guidance for NCCDPHP employee recognition efforts; (6) coordinates and evaluates promising collaborative practices and structures that more efficiently demonstrate strategic sharing of resources across NCCDPHP programs, and (7) coordinates the Center efforts to identify opportunities to train and develop new public health staff experts for the nation.

Office of Administrative Services (CUC13). (1) provides leadership, planning, coordination, advice, and guidance in the execution and maintenance of the Center's administrative functions; (2) plans, develops, and implements Center-wide policies, procedures, and practices for administrative management; (3) provides and coordinates Center-wide administrative management and support services for personnel, travel, and other administrative areas; (4) plans, coordinates, and implements training for the divisions' administrative personnel; (5) provides guidance, support, and assistance in recruitment, staff development, conflict resolution, and personnel issues management and (6) in the conduct of these activities, maintains liaison with other CDC components, Department of Health and Human Services (HHS), and other federal agencies.

Office of Communication (CUC15). (1) Plans, develops, conducts, and evaluates cross-cutting communication projects and campaigns to inform media, health professionals, and the public about preventing chronic diseases and promoting healthy behaviors; (2) provides media, communication, and marketing support to NCCDPHP's divisions and programs; (3) facilitates cross-division coordination of health communication activities, sharing of lessons learned, and development of best practices; (4) serves as primary liaison between NCCDPHP and CDC's Office of the Associate Director for Communication on communication and marketing science and its associated research and practice; (5) prepares CDC and HHS press releases and media advisories, responds to Center-level media inquiries, and coordinates and clears division-level media inquiries; (6) provides media relations support and training to NCCDPHP scientists and communication specialists; (7) manages a centralized system for tracking and analyzing media coverage of NCCDPHP issues and data releases; (8) assesses each newly division-cleared NCCDPHP eClearance item (journal articles, MMWRs, internet content, reports/books and book chapters, and presentation abstracts and presentations) for any further needed clearance review (such as cross-division or cross-CIO clearance, center policy or communications review, CDC Office of Science review); (9) provides technical writer-editor support to NCCDPHP scientific authors; (10) develops, designs, and coordinates the publication of digital and print materials, such as fact sheets, newsletters, speeches and presentations, exhibits, podcasts, and educational videos; (11) manages NCCDPHP's website and Intranet and coordinates scheduling and production of chronic-disease-related weekly features for main CDC website; (12) manages, maintains, and supports the development and publication of awardee success stories in a public-facing internet application; (13) responds to cross-cutting public inquiries as part of the CDC-INFO system and coordinates NCCDPHP's use of the CDC publication distribution facility; (14) manages and coordinates scientific and public affairs clearance of NCCDPHP print and non-print materials, ensuring adherence to and consistency with CDC and HHS information and publication policies and guidelines; (15) manages CDC logo licensing and co-branding requests from external partner organizations involving NCCDPHP divisions and programs; (16) represents NCCDPHP on committees, workgroups, and at conferences relating to health communication activities; and (17) manages internal NCCDPHP communications.

Office of Informatics and Information Resources Management (CUC16). (1) Provides leadership, direction, coordination, support and assistance to NCCDPHP programs and activities to enhance the strategic position in public health informatics, information technology, and other information areas to optimize operational effectiveness; (2) provides management oversight of NCCDPHP's information technology (IT) investments and initiatives; (3) manages NCCDPHP's IT budget development and review processes; plans and directs the Capital Planning Investment Control processes; (4) provides consultation and support for NCCDPHP data management, systems development, and information security need; (5) manages NCCDPHP compliance with Federal Information Security Management Agency (FISMA), OMB, HHS, CDC and other cybersecurity standards, practices and policies; (6) facilitates cross-division coordination of informatics and information technology activities, sharing of lessons learned, and development of best practices; (7) serves as primary liaison between NCCDPHP and CDC's Office of the Chief Information Officer on IT infrastructure, shared services rollout, software acquisitions, and trainings; cybersecurity and marketing science and its associated research and practice; (8) represents NCCDPHP on committees, workgroups, and at conferences relating to public health informatics and information technology activities; and (9) plans, develops, manages, and conducts oversight of NCCDPHP's information technology and services contracts.

Office of Policy, Planning, and Partnerships (CUC17). (1) Provides analysis of and guidance to Center leadership and division staff on policy, evaluation and legislative issues (2) provides programmatic and budgetary information related to the Center's activities to internal and external stakeholders and policymakers; (3) develops center-wide planning, evaluation and budget documents; (4) monitors developments in chronic disease policy; and (5) develops policy competencies throughout the Center.

Office of Medicine and Science (CUC1B). (1) Provides support, coordination and guidance to NCCDPHP programs to improve science quality, science administration, and scientific reporting, and to integrate health care and public health; (2) oversees scientific clearance, research, misconduct, and regulatory compliance, and includes the Extramural Research Program Operations and Services; (3) promotes and fosters linkages to improve partnerships between health care and public health programs; (4) works to improve measurement of health intervention processes and outcomes; and (5) promotes the open exchange of information and knowledge among researchers, practitioners, and others who strive to improve public health through the quarterly publication of Preventing Chronic Disease.

Division of Cancer Prevention and Control (CUCC). (1) Plans, directs, and supports prevention, early detection, and control programs for cancer, based upon policy, research, and public health practice; (2) directs, monitors, and reports on activities associated with the implementation of Public Law 101-354: “The Breast and Cervical Cancer Mortality Prevention Act of 1990”; (3) plans, directs, and supports activities for monitoring the distribution and the determinants of cancer morbidity, survival, and mortality; (4) plans and conducts epidemiologic studies and evaluations to identify the feasibility and effectiveness of cancer prevention and control strategies; (5) develops public health strategies and guidelines to form the basis for community interventions in cancer prevention and control; (6) provides technical consultation, assistance, and training to state and local public health agencies in all components of early detection and control programs for cancer; (7) provides technical assistance and consultation to health care provider organizations related to the improved education, training, and skills in the prevention, detection and control of selected cancers; (8) identifies problems, needs, and opportunities related to modifiable behavioral and other risk factors, and recommends priorities for health education, health promotion, and cancer risk reduction activities; (9) plans, develops and maintains surveillance systems in collaboration with states and other Center components; and (10) coordinates activities as appropriate with other CDC organizations, PHS agencies, and related voluntary, international, and professional health organizations.

Office of the Director (CUCC1). (1) Establishes and interprets policies and determines program priorities; (2) provides leadership and guidance in program planning and development, program management, program evaluation, budget development, and division operations; (3) monitors progress toward achieving division objectives and assessing the impact of programs; (4) insures that division activities are coordinated with other components of CDC both within and outside the Center; with federal, state and local agencies; and related voluntary and professional organizations; (5) coordinates division responses to requests for technical assistance or information on primary and secondary cancer prevention practices, behaviors and policies, including division activities and programs; (6) provides administrative and logistic support for division field staff; (7) develops and produces communications tools and public affairs strategies to meet the needs of division programs and mission; (8) develops health communication campaigns at the national and state levels; (9) guides the production and distribution of print, broadcast, and electronic materials, for use in programs at the national and state levels; and (10) provides leadership, consultation and technical assistance on health communication issues for cancer prevention and control.

Epidemiology and Applied Research Branch (CUCCB). (1) Designs, implements, and analyzes research in epidemiology, health services, applied economics, behavioral science and communications that contribute to scientific knowledge related to cancer prevention and control; (2) monitors trends in the use of preventive services and behaviors which affect the risk of cancer incidence or mortality; (3) conducts both qualitative and quantitative research to identify the determinants of cancer prevention and screening behaviors; (4) studies the use and effectiveness of health care resources allocated to the primary and secondary prevention of cancer; (5) assesses the quality and appropriateness of screening, follow-up, and treatment for cancer discovered through early detection; (6) evaluates the effectiveness of programs sponsored by the Division of Cancer Prevention and Control (DCPC); (7) provides scientific and medical expertise to the division; (8) provides technical assistance in research design and evaluation of cancer control programs to other organizational units in the division, state health departments, and national and international non-profit and for profit organizations; and (9) establishes collaborative partnerships with public and private organizations of national and international stature.

Cancer Surveillance Branch (CUCCC). (1) Collects complete, timely, and accurate cancer surveillance data to inform cancer care and interventions, plan cancer control programs, and inform health policy; (2) support central cancer registry capacity to implement advanced and innovative surveillance activities; (3) provides technical support to states for the planning, implementation, and evaluation of population-based statewide central cancer registries; (4) collaborates with states and national organizations to set and implement standards for data quality, timeliness, and completeness for cancer case reporting; (5) assists states to ensure high quality, complete and timely cancer surveillance data to be collected and submitted and to utilize cancer surveillance data to describe the state and national disease burden, evaluate cancer control activities, and identify populations at high risk of certain cancers; (6) provides technical assistance to states in the design and implementation of systems for, and analysis of, surveillance research related to cancer; (7) provides technical assistance, education and training to local, state, and national organizations in data collection and surveillance data systems; (8) supports and manages comprehensive database systems to monitor progress of state cancer control programs; (9) disseminates high-quality data on all reportable incident cancer cases in a timely manner for the purpose of cancer prevention and control; (10) provide leadership and expand collaborations with other federal, state, local, voluntary, professional, and international organizations for all aspects of cancer surveillance; and (11) provides leadership and expertise in the development and implementation of innovative electronic reporting of data via electronic health records and data systems.

Program Services Branch (CUCCD). (1) Provides technical consultation and guidance to public health agencies in states, tribes and territories concerning the development and implementation of high quality cancer early detection and control programs; (2) monitors, tracks, and evaluates program activities in funded cancer screening and early detection programs; (3) establishes and interprets policies and priorities in support of public health interventions for cancer screening and control; (4) identifies and promotes effective program management approaches and ensures performance-based distribution of public funds; (5) develops and maintains liaisons and collaborative relationships with professional, community, and voluntary agencies involved in cancer control activities; (6) assists in the design, implementation, and monitoring of management information systems for cancer screening and early detection programs, and facilitates and coordinates the collection and evaluation of data from cancer screening and follow-up activities; (7) conducts research to identify effective outreach and recruitment strategies for underserved populations; (8) plans, develops, implements, disseminates and evaluates education and training programs for the public and healthcare professionals regarding cancer detection and control; and (9) recruits, trains, and supervises program consultants and public health advisors working with health departments to implement cancer screening and early detection programs.

Comprehensive Cancer Control Branch (CUCCG). (1) Provides technical consultation and guidance to states and public health agencies in all components of the early detection and control programs for cancer; (2) monitors, tracks, and evaluates program activities in state, tribal and territorial-based comprehensive cancer control programs; (3) recruits, trains, and supervises program consultants and public health advisors working with state, tribal and territorial health departments to implement comprehensive cancer control programs; (4) designs, implements, and analyzes research to identify effective cancer control interventions to reach target populations; (5) plans, develops, and implements training programs for comprehensive cancer control; (6) develops and maintains liaison and collaborative relationships with professional, community, and voluntary agencies involved in comprehensive cancer control activities; (7) evaluates the effectiveness of comprehensive cancer control programs; and (8) provides technical assistance in research design and evaluation of comprehensive cancer control programs to other organizational units within Division of Cancer Prevention and Control (DCPC), across NCCDPHP, CDC, state health departments, and national and international non-profit and for-profit organizations; provides scientific and medical expertise to DCPC, NCCDPHP, CDC, state health departments, and national and international non-profit and for-profit organizations; and directs, designs, develops and conducts research projects to investigate evidence-based practice, prevention and control activities related to reducing the burden of cancer.

Division of Oral Health (CUCD). (1) Monitors burden of oral diseases, risk factors, preventive services, and other associated factors; (2) supports public health research that directly applies to oral health policies and programs; (3) communicates timely and relevant information to impact oral health policy, practices, and programs; (4) supports the implementation and maintenance of effective strategies and interventions to reduce the burden of oral diseases and conditions; (5) builds capacity and infrastructure for sustainable, effective, and efficient oral health programs; (6) evaluates oral health programs to ensure that implementation has been successful; (7) identifies and facilitates partnerships to support CDC's strategic priorities for oral health; (8) investigates and diagnoses oral health hazards and outbreaks in the community; (9) develops and advocates sound oral public health policies; and (10) translates and disseminates research findings to develop, enhance, and guide programs, policies and strategies.

Division of Diabetes Translation (CUCG). In collaboration with NCCDPHP divisions, other CDC components, other HHS agencies, state, tribal, local and territorial government agencies, academic institutions, and voluntary and private sector organizations, the Division of Diabetes Translation: (1) Plans, directs, and coordinates a national program to prevent type 2 diabetes and reduce morbidity, mortality, disability, and cost associated with diabetes and its complications; (2) identifies, evaluates, and implements programs and policies to prevent type 2 diabetes and manage diabetes through the translation of evidence-based models and interventions for improved health care and self-care practices into widespread clinical and community practice; (3) conducts surveillance of diabetes, its complications, and the utilization of health care and prevention resources to monitor trends and evaluate program impact on morbidity, mortality, disability, and cost; (4) conducts epidemiologic studies and disseminates finding to identify and evaluate the feasibility and effectiveness of potential prevention and control strategies at the community level; (5) develops or supports clinical and public health guidelines and strategies to form the basis for community interventions; and (6) provides technical consultation and assistance to national, state and local organizations to implement and evaluate cost effective interventions to reduce morbidity, mortality, and disability.

Office of the Director (CUCG1). (1) Establishes and interprets policies and determines program priorities; (2) provides leadership and guidance in strategic planning, budget formulation, programmatic and scientific planning, development, and management, administrative management and operations of the division; (3) coordinates the monitoring and reporting of division priorities, accomplishments, future directions, and resource requirements; (4) leads and coordinates policy and partnership activities; (5) provides leadership to the division for health communication efforts, including developing health communication campaigns and managing web content; (6) provides scientific oversight and support for scientific quality and reporting; and (7) coordinates division activities with other components of NCCDPHP and CDC, organizations in the public and private sectors, and other federal agencies.

Surveillance, Epidemiology, Economics and Statistics Branch (CUCGB). (1) Conducts national surveillance of diabetes and its complications, including surveillance of the degree of diffusion and dissemination of preventive services and the utilization of health care; (2) identifies clinical, health services, and public health research findings and technologies that have potential to prevent type 2 diabetes or manage diabetes and its complications through public health avenues; (3) develops and analyzes mathematical and economic models to project the burden of diabetes and prioritize effective interventions to prevent type 2 diabetes and manage diabetes; (4) conducts epidemiologic studies to identify high-risk population groups and other risk factors for diabetes and its complications; (5) conducts cost and cost-effectiveness analyses of type 2 diabetes prevention and diabetes management to prioritize strategies for policy-makers; (6) provides scientific and technical support to division staff, state and local health agencies, and others in planning and implementation of surveillance and effectiveness studies to reduce morbidity and mortality from diabetes; and (7) collaborates with counterparts in other divisions, academic institutions, and other HHS agencies by conducting national public health research projects and by providing technical assistance in areas of epidemiology, surveillance, and economics.

Program Implementation Branch (CUCGC). (1) Provides programmatic leadership, guidance and consultation on a range of strategies to improve diabetes prevention and control programs in states, territories, tribes, and local jurisdictions; (2) identifies, develops, implements and evaluates strategies to prevent type 2 diabetes and manage diabetes through widespread community practice and through the application of policy and environmental interventions, health systems interventions and community interventions; (3) provides leadership, management and oversight for the National Diabetes Prevention Program; (4) develops, implements and supports work with vulnerable and disparate population groups; and (5) coordinates and collaborates with counterparts in other divisions, HHS agencies, academic institutions, and national and voluntary organizations to improve public health diabetes programs, practices, and policies.

Translation, Health Education, and Evaluation Branch (CUCGD). (1) Synthesizes and translates a body of best science and practice that can be applied to various public health settings; (2) analyzes, disseminates, and publishes data from diabetes programs to develop operational strategies for effective implementation of evidence-based interventions; (3) prepares and disseminates products that translate applied research, program evaluation, and health economics science to state/local programs and others; (4) conducts behavioral and implementation science research on approaches to improving health equity and addressing social determinants of health in the context of type 2 diabetes prevention and diabetes management; (5) designs, evaluates, and implements national health promotion strategies directed toward health care professionals and systems, individuals with and at risk for diabetes, community leaders, business, and general public; (6) evaluates program policies, plans, procedures, priorities, and guidelines being implemented in the field to improve health, prevent or delay type 2 diabetes and reduce morbidity, mortality, disability and costs associated with diabetes and its complications; and (7) provides evaluation support for division programs, grants, and policies, including the design and evaluation of data collection instruments for evaluation of programs and special studies.

Division of Nutrition, Physical Activity, and Obesity (CUCH). (1) Provides national and international leadership for chronic disease prevention and control and health promotion in the areas of nutrition, physical activity, and obesity; (2) plans and implements surveillance to track and analyze policy and environmental indicators and behaviors related to nutrition, physical activity, and related risk factors for obesity and other chronic diseases; (3) builds international, national, state, and local community expertise and capacity to plan, implement, and evaluate nutrition, physical activity, obesity prevention, and other chronic disease risk factor programs focused on reducing health disparities; (4) conducts epidemiologic and intervention studies related to nutrition, physical activity, and obesity; (5) develops and disseminates new methods, guidelines, and recommendations for effective nutrition, physical activity, and obesity prevention strategies in multiple settings; (6) facilitates the translation and dissemination of practice- and research-tested findings into public health practice for optimal health impact; (7) provides national leadership in health communications to promote nutrition, physical activity, and obesity prevention and control, and integrates communications, trainings, translation and dissemination with overall program efforts; and (8) collaborates across CDC and with appropriate federal and state agencies, international/national/community organizations, and others.

Office of the Director (CUCH1). (1) Provides leadership and direction in establishing agency and division priorities, strategies, programs, and policies; (2) plans and directs resources and activities in alignment with agency and division goals and objectives; (3) leads policy development efforts and analyses related to nutrition, physical activity, obesity, and health disparities; (4) mobilizes and coordinates partnerships and constituencies to build a national infrastructure for nutrition and physical activity promotion and obesity prevention, and other chronic disease risk factors to support the reduction of health disparities; (5) educates healthcare professionals, businesses, communities, the general public, and key decision-makers about the importance of nutrition and physical activity in preventing obesity and their impact on chronic disease and public health; (6) monitors progress toward achieving agency and division goals and objectives and assesses the impact of programs; and (7) facilitates cross-functional activities and operations across CDC and in coordination with other federal agencies, partners, and constituencies.

Nutrition Branch (CUCHC). (1) Provides technical and subject matter expertise and training for state and community programs on policy, systems and environmental approaches related to nutrition and obesity; (2) plans, coordinates, and conducts surveillance activities in domestic and international settings to assess nutrition practices, food systems, and behavioral risks in children, adolescents, and adults; (3) analyzes, interprets, and disseminates data from surveys, surveillance activities, and epidemiologic studies related to nutrition and nutrition factors affecting chronic disease; (4) designs, implements, and evaluates epidemiologic studies and intervention projects for domestic and international application to address nutrition; (5) plans, coordinates, and conducts nutrition research and surveillance of policy and environmental strategies and interventions; (6) develops and disseminates nutrition guidelines and recommendations for maternal and child health, child growth and development, and prevention/reduction of chronic disease; (7) designs and evaluates nutrition and obesity interventions; (8) provides nutrition expertise and consultation to develop and promote health communication strategies; (9) coordinates cross- functional nutrition-related activities across CDC; and (10) coordinates and collaborates with appropriate federal agencies, national and international organizations, and other partners.

Physical Activity and Health Branch (CUCHD). (1) Provides technical and subject matter expertise and training for state and community programs on policy, systems and environmental approaches related to physical activity; (2) plans, coordinates, and conducts surveillance to assess levels of physical activity as well as determinants of physical activity; (3) conducts epidemiologic research related to physical activity and its impact on health, obesity, and chronic disease; (4) designs and evaluates physical activity and obesity interventions; (5) develops evidence-based guidelines and recommendations for physical activity; (6) provides physical activity expertise and consultation to develop and promote health communication strategies; (7) coordinates cross-functional physical activity-related activities across CDC; and (8) coordinates and collaborates with appropriate federal agencies, national and international organizations, and other partners.

Obesity Prevention and Control Branch (CUCHG). (1) Provides technical and subject matter expertise and training for state and community programs on policy, systems and environmental approaches related to nutrition, physical activity, and obesity; (2) plans, coordinates, and conducts surveillance to assess levels of healthy weight, overweight, and obesity and associated risk factors; (3) conducts research that utilizes data from surveys, surveillance activities, and nutrition and physical activity epidemiologic studies related to overweight and obesity and associated risk factors; (4) designs and evaluates nutrition, physical activity and obesity interventions; (5) develops and disseminates guidelines and recommendations for policy and environmental changes in multiples settings; (6) provides nutrition, physical activity and obesity expertise and consultation to develop and promote health communication strategies; (7) coordinates cross-functional obesity-related activities across CDC; and (8) coordinates and collaborates with appropriate federal agencies, national and international organizations, and other partners.

Program Development and Evaluation Branch (CUCHH). (1) Provides technical and subject matter expertise and training for state and community programs on translation, implementation and evaluation of policy, systems, and environmental strategies for nutrition, physical activity, obesity, and other chronic disease risk factors to reduce health disparities; (2) designs and conducts applied research, evaluation, and translation activities related to nutrition, physical activity, obesity prevention, and other chronic disease risk factors to reduce health disparities; (3) coordinates and uses research, guidelines, and recommendations to develop and disseminate evidence-based interventions and promising practices that support improved physical activity, nutrition, and healthy weight; (4) conducts behavioral and communications research to understand knowledge, attitudes, and beliefs and achieve healthy behavior changes in populations; and (5) coordinates and collaborates with appropriate federal agencies, national and international organizations, and other partners.

Division of Reproductive Health (CUCJ). Promotes optimal and equitable health in women and infants through public health surveillance, research, leadership, and partnership to move science to practice. In carrying out this mission, the Division of Reproductive Health: (1) Enhances the ability of others to identify and address reproductive, pregnancy and infant health issues by providing technical assistance, consultation, and training worldwide; (2) supports national and state-based surveillance systems to monitor trends and investigate health issues; (3) conducts epidemiologic, behavioral, and health services research; and (4) works with partners to translate research findings into health care practice, public health policy, and health promotion strategies.

Office of the Director (CUCJ1). (1) Establishes and interprets policies; (2) determines program priorities; (3) plans division activities including the organization of personnel and the use of financial resources; (4) leads and coordinates policy and partnership activities; (5) provides leadership to the division for health communication efforts, including developing health communication campaigns and managing web content; (6) provides technical assistance and scientific leadership in areas of epidemiology, surveillance, and economic analysis; (7) establishes standards for quality control of studies and pilot projects; (8) monitors progress toward achieving program objectives; (9) assesses the impact of the division's activities on improved pregnancy outcomes and improved reproductive health of adults; (10) reports accomplishments, future directions, and resource requirements; (11) coordinates activities within the division and other units of NCCDPHP and CDC and with other agencies in the public and private sectors; and (12) represents the division at official professional and scientific meetings.

Maternal and Infant Health Branch (CUCJB). (1) Conducts surveillance, epidemiologic research, and implementation science to examine and evaluate health problems, programs, and policies related to maternal and infant health with particular emphases on maternal and infant morbidity and mortality surveillance and prevention; (2) consults with other CDC programs to address maternal and infant health-related issues with a special emphasis on chronic diseases as they relate to pregnancy, pregnancy complications and adverse birth outcomes; (3) provides technical assistance, consultation, and training to local, State, and Federal agencies, universities and other related governmental and non-governmental organizations on maternal and infant health-related problems; (4) serves as a primary Federal resource of technical assistance and expertise in surveillance, epidemiology, and behavioral research to inform maternal and infant health practice guidelines and recommendations; and (5) considers the consequences of subfertility and infertility on the health of women and the infants conceived through infertility services.

Women's Health and Fertility Branch (CUCJE). (1) Conducts population-based surveillance of maternal health, behaviors, and experiences that occur before, during, and after pregnancy, and uses survey and surveillance data to monitor health-related indicators and performance measure; (2) develops and conducts research on access to reproductive health care and receipt of services; (3) conducts research on the relationship between contraception and medical conditions including chronic and infectious diseases; (4) develops, evaluates, and disseminates recommendations and guidelines for reproductive health practice; and (5) collaborates with other CDC offices, state and national agencies, and professional organizations on research, public health surveillance, and evaluation to promote women's and infant's health and prevent unintended and teen pregnancy.

Field Support Branch (CUCJG). (1) Assists domestic and international health agencies in health services management, health services research, emergency preparedness, and translation of findings by providing technical assistance, including training, analytical assistance, and consultation; (2) builds epidemiology capacity in state, tribal, and urban maternal and child health (MCH) organizations; (3) partners with states, tribes, local and national MCH organizations, and federal agencies to improve maternal and child health; (4) collaborates with programs both inside and outside of CDC on reproductive, maternal and child health such as CDC's Epidemic Intelligence Service (EIS), Field Epidemiology Training Program (FETP), Council of State and Territorial Epidemiologists (CSTE) and CDC's Office of Public Health Preparedness and Response; and (5) provides technical assistance and expertise in reproductive, maternal, infant and perinatal health programs.

Office on Smoking and Health (CUCL). (1) Administers programs to inform Americans about the dangers of tobacco use in order to reduce death and disability due to smoking and smokeless tobacco use; (2) promotes and stimulates research on the determinants and health effects of smoking and smokeless tobacco use; (3) coordinates all PHS research and educational programs and other HHS activities related to tobacco and health; (4) establishes and maintains liaison with other federal agencies, private organizations, state and local governments, and international agencies on matters related to tobacco and health; (5) serves as a clearinghouse for the collection, organization, and dissemination of data and associated information on all aspects of tobacco and health; (6) develops materials on tobacco use in relation to health; (7) provides assistance for educational programs and trainings on smoking and health; (8) produces Congressionally mandated reports to Congress; (9) conducts surveys, and coordinates and conducts epidemiologic studies related to tobacco use and tobacco control; (10) provides staff support for a congressionally mandated federal advisory committee on smoking and health; (11) collects, maintains, and analyzes information provided by the tobacco industry on cigarette additives and smokeless tobacco additives and nicotine content pursuant to Public Laws 98-474 and 99-252; (12) serves as a World Health Organization (WHO) Collaborating Center on Smoking and Health; (13) serves as the lead HHS organization for the Objectives for the Nation related to smoking and health; and (14) provides staff support to the Surgeon General on activities related to smoking and health.

Office of the Director (CUCL1). (1) Manages, directs, coordinates, and evaluates the activities of the Office on Smoking and Health (OSH); (2) develops goals and objectives for the office; (3) provides leadership, scientific oversight, and guidance in program planning and development; (4) coordinates the development of policy related to tobacco use and health in CDC, PHS, and HHS; (5) coordinates assistance to other CDC components; federal, state, and local government agencies; the private sector; and other nations; (6) stimulates additional research and program activity related to tobacco use and health by other federal agencies, international organizations, and public and private organizations; (7) coordinates the OSH public information program, technical information program, and surveillance and epidemiologic projects and studies; (8) provides program management and administrative support services; (9) serves as the lead for the Healthy People Tobacco Use Objectives for the Nation; (10) collects and maintains information provided by the tobacco industry on cigarette additives and smokeless tobacco additives and nicotine content; (11) provides staff support for a Congressionally-mandated federal advisory committee on smoking and health; (12) serves as the principal adviser to the Surgeon General of the U.S. Public Health Service on all activities related to tobacco use and health, including the Surgeon General's Reports on Tobacco; (13) serves a leading role in providing proactive media outreach and media, health professionals, and the general public with information on tobacco prevention and control issues; (14) provides leadership, coordination, and guidance to the division in advancing health equity and eliminating commercial tobacco related health disparities; and (15) manages/leads and cultivates partnerships.

Epidemiology Branch (CUCLB). (1) Conducts epidemiologic surveillance, research, and evaluations related to tobacco prevention and control; (2) analyzes existing data sources, primarily national surveys conducted by the Office on Smoking and Health and other federal agencies; (3) provides technical and scientific assistance to researchers, health departments, and other health professionals interested in performing specialized data collection or analyses related to smoking and tobacco use; (4) reviews and evaluates epidemiologic studies on the health effects and determinants of tobacco use; (5) develops new methods and techniques for assessing the health effects and determinants of tobacco use; (6) monitors trends in tobacco use prevalence, economic costs, morbidity, and mortality attributable to tobacco use; (7) conducts joint projects with federal agencies, voluntary organizations, state health departments, and others involved in tobacco prevention and control; (8) develops and produces publications on current epidemiologic science of tobacco use and control; (9) conducts process, outcome and impact evaluation of comprehensive tobacco control programs and policies; conceives, conducts, analyzes and publishes evaluation manuals, reports, and papers; and (10) provides evaluation technical assistance to the National Tobacco Control Programs.

Health Communications Branch (CUCLC). (1) Plans, develops, implements and evaluates national tobacco education campaigns; (2) provides internal and external evidenced-based health communication technical assistance to awardees and partners; (3) manages web and social media activities for the OSH; (4) develops and maintains the Media Campaign Resource Center and the Publication Catalog Ordering System; (5) supports the promotion of Surgeon General's reports and other reports on tobacco use and health; (6) manages internal OSH communication requests for web, writing/editing, presentation development, publication requests, social media, and stock image requests; (7) oversees mailing lists management, and OSH conference exhibits; and (8) collaborates with other groups within CDC and HHS, and with other federal agencies, as well as other professional, voluntary, international, and professional health organizations.

Program Services Branch (CUCLD). (1) Provides technical consultation, assistance, and training to local, state, regional, and national organizations and agencies in all components of tobacco prevention and control; (2) monitors and tracks program activities in state-based chronic disease prevention and control programs; (3) recruits, trains, and supervises project officers working with state and local health departments, as well as local, state, regional, and national organizations and agencies to implement tobacco control programs; (4) coordinates and provides consultation to local, state, regional, and national training opportunities that facilitate planning, development, and implementation of tobacco control initiatives; (5) assists in training, providing technical assistance, and disseminating information to leaders, decision makers and program managers; and (6) coordinates the collection of data from state and local programs to monitor national progress toward the cessation and prevention of tobacco use.

Global Tobacco Control Branch (CUCLE). (1) Strengthens global tobacco surveillance systems to monitor the global tobacco epidemic in partnership with other federal agencies, international organizations, the private sector and other components of CDC; (2) advances research to promote effective tobacco control programs; (3) translates data to action; (4) increases country and regional capacity to plan, develop, implement, and evaluate comprehensive tobacco control efforts; (5) strengthens partnerships to leverage resources for efficient and sustainable tobacco control initiatives; (6) serves as a WHO Collaborating Center for Global Tobacco Surveillance; and (7) serves as the designated Data Coordinating Center and depository of the Global Tobacco Surveillance System data.

Division for Heart Disease and Stroke Prevention (CUCM). (1) Plans, directs, and coordinates programs to reduce morbidity, risk factors, costs, disability, mortality, and disparities associated with heart disease, stroke, and other cardiovascular disease outcomes; (2) provides national leadership, technical assistance, expert consultation, and training to state and local health agencies in intervention, surveillance, evaluation, and communication or marketing activities related to implementing state programs, registries, and other surveillance systems associated with reducing and preventing cardiovascular disease outcomes; (3) implements surveillance systems and conducts surveillance of outcomes and utilization of health care and prevention resources related to heart disease, stroke, high blood pressure, high cholesterol, and other cardiovascular disease to monitor trends and evaluate program impact on morbidity, mortality, risk factor improvement, cost, disability, and disparities; (4) conducts epidemiologic studies and disseminates findings to identify emerging risk factors with potential for prevention and control strategies; (5) conducts prevention research studies and disseminates findings to identify and evaluate the feasibility and effectiveness of potential prevention and control strategies in health care systems and at the community level; (6) identifies, implements, and evaluates programs to prevent and control heart disease, stroke, high blood pressure, high cholesterol, other cardiovascular disease outcomes, and disparities through the translation and communication of best practices in health care and risk factor prevention into widespread health systems policies and community changes; (7) collaborates with other cardiovascular health related activities at CDC; (8) maintains collaborative relationships with public and private sector organizations, academic institutions, or other groups involved in the prevention and control of heart disease, stroke, and other cardiovascular diseases or risk factors; and (9) provides technical assistance and consultation to other nations and to the WHO in the global prevention and control of cardiovascular disease.

Office of the Director (CUCM1). (1) Provides leadership and direction in establishing division priorities, strategies, programs and policies; (2) plans and directs resources and activities in alignment with division goals and objectives; (3) monitors progress toward achieving division objectives and assessing impact of programs; (4) insures that division activities are coordinated with other components of CDC both within and outside the center, with federal, state and local agencies, and related voluntary and professional organizations; (5) provides national leadership in coordinating and implementing activities that prevent heart disease and stroke; (6) educates the general public, key decision-makers, healthcare professionals, businesses and communities about the importance of and opportunities to prevent heart disease and stroke; (7) serves as co-lead for Healthy People heart disease and stroke objectives for the nation; (8) develops and produces communication tools to meet the needs of division programs and mission; (9) develops health communication campaigns at the national and state levels; (10) provides leadership to the division for health communication efforts; (11) provides administrative and management support for division activities; (12) reports accomplishments, future directions and resource requirements; and (13) represents the division at official professional and scientific meetings.

Epidemiology and Surveillance Branch (CUCMB). (1) Monitors the epidemiology of cardiovascular disease risk factors, behaviors, outcomes, costs, barriers, awareness, access to care, geographic variations and disparities; (2) prepares routine surveillance reports of national and state trends in cardiovascular disease risk factors, behaviors, outcomes, and disparities, which includes the mapping of geographic variations; (3) coordinates, manages, and maintains the activities of the National Cardiovascular Disease Surveillance System, including the Data Trends & Maps website, the Interactive Atlas website, surveillance summaries, and research publications; (4) develops, designs, implements, and evaluates new cardiovascular disease registries and other surveillance systems that address gaps in existing CDC surveillance systems; (5) prepares epidemiologic and scientific papers for publication in medical and public health journals and for presentation to national public health and scientific conferences on surveillance and epidemiologic findings; (6) identifies, investigates, implements, and evaluates new surveillance methodologies and technologies that involve electronic data abstraction and transfer to state and national registries and spatial analysis; (7) proposes and serves as technical advisors and project officers for epidemiologic research projects that fill gaps in surveillance and intervention and investigates emerging risk factors that will lead to the prevention of cardiovascular disease and the elimination of disparities in cardiovascular disease; (8) serves as scientific and technical experts in cardiovascular disease epidemiology and surveillance methodology to state health departments and to advisory groups as the national/international level; (9) provides scientific leadership in the development, extension, and improvement of surveillance systems, epidemiologic strategies, and/or service to cardiovascular health programs; (10) facilitates integration of epidemiology and surveillance across the division; and (11) provides leadership in population health management by describing the characteristics of public health and health care systems, understanding enhancing quality improvement efforts by health providers and systems, and proposing methods to take advantage of policy and payment structure changes for the improvement of cardiovascular health of the nation.

Applied Research and Evaluation Branch (CUCMC). (1) Plans, develops, and implements projects related to applied research, program evaluation, and health economics research; (2) prepares scientific papers for publication in public health journals and for presentation at national and international conferences, meetings and seminars on applied research, program evaluation, and health economics research; (3) synthesizes and translates a body of best science and practice that can be applied to various public health settings; (4) prepares and disseminates products that translate applied research, program evaluation, and health economics science to state programs and others; (5) implements a comprehensive division evaluation plan addressing all facets of division activities, including state-based program evaluation, research evaluation, and evaluation training needs; (6) provides applied research, evaluation, and health economics expertise, technical assistance and training to the division, center, CDC, and national and international partners; and (7) implements demonstration and pilot projects with state programs and others to put research into practice.

Program Development and Services Branch (CUCMD). (1) Provides programmatic leadership and support for prevention and control of heart disease, stroke, and related risk factors in states, territories, tribes and local jurisdictions; (2) provides comprehensive technical advice and assistance in planning, implementing and evaluating strategies to prevent and control heart disease, stroke, and related risk factors through policy, systems, environmental changes; (3) provides program policies and guidance outlining CDC's role and the national goals and objectives related to heart disease and stroke prevention; (4) provides technical assistance to grantees on implementation of evidence- and practice-based interventions with greatest reach and impact and potential to be taken jurisdiction wide; (5) provides technical assistance to enhance coordination across chronic diseases to ensure that heart disease and stroke prevention planning and implementation optimize collaboration across chronic disease interventions; (6) provides leadership and technical expertise, in policy and system change, health disparities, healthcare, worksite and community interventions to prevent and control heart disease, stroke and related risk factors; (7) provides leadership and technical expertise in women's cardiovascular health, health disparities and healthcare interventions for cardiovascular primary and secondary prevention programs as it relates to the Well-Integrated Screening and Evaluation for Women Across the Nation (WISEWOMAN) Program; (8) facilitates programmatic coordination across the division, center, CDC to address heart disease and stroke prevention; (9) works with national partners to encourage policy and systems changes and other actions supportive of CDC and grantee work to prevent and control heart disease, stroke and related risk factors; (10) reviews and monitors cooperative agreements and contract; (11) serves as technical experts in the implementation of policy systems, and environmental strategies for health promotion and the prevention and control of heart disease, stroke, and related risk factors for grantees and others within CDC and with partners; (12) provides comprehensive training expertise, including distance learning, training seminars, meetings, how-to-tools, promising practices documents, and other materials to promote the prevention of heart disease and stroke and assist grantees with planning, implementing, and replicating interventions; (13) monitors management information systems for heart disease and stroke prevention efforts to assess progress toward achieving division and center goals; (14) obtains, analyzes and disseminates data from interventions to develop operational strategies to encourage replication of promising program practices; (15) provides technical assistance on use of data for program planning and priority setting, including addressing specific populations with documented health disparities; (16) ensures products developed across the division for grantees are appropriate and supportive of priority work; and (17) provides forums for grantees to ensure rapid spread of promising practices and lessons learned.

Division of Population Health (CUCP). (1) Delivers state-based and local level data on chronic disease, risk factors and conditions; (2) focuses on population-based strategies to address specific health outcomes within particular groups (e.g., healthy tribes, healthy aging, etc.) and settings (e.g., healthy schools); (3) advances the use of innovative data analytics, prevention research, and evidence-based practices; (4) provides national and international leadership in coordinating and implementing priorities and activities of the division; (5) supports epidemiologic and surveillance activities, training and intervention activities to promote population health and support the development of state chronic disease program capacity; (6) collaborates with CDC divisions and programs, federal, state, and local government agencies; tribes, territories, and with national partner organizations; and (7) advances health equity among populations disproportionately affected by chronic diseases, social determinants of health, and associated risk factors.

Office of the Director (CUCP1). (1) Manages, coordinates, and evaluates the activities and programs of the division; (2) ensures that division activities are coordinated with other components of CDC, with federal, state, and local government agencies, and with voluntary and professional entities; (3) provides national leadership and technical assistance on population health surveillance, small area estimation, prevention research, healthy aging including Alzheimer's and Arthritis, healthy schools, healthy tribes, Epilepsy, excessive alcohol use, Lupus, and social emotional health; (4) provides scientific oversight and strategic guidance of division programmatic, surveillance, and research activities; (5) provides administrative and management support for the division including guidance and logistics for personnel, including field staff; the use of financial resources; and oversight of grants, cooperative agreements, contracts, and reimbursable agreements; (6) provides leadership and technical assistance to partners to translate science and research into public health practice to improve population health; (7) provides strategic guidance and coordination of policy, issues management, and program and partnership development activities; (8) coordinates and supports division-wide communication and policy needs; and (9) supports the professional growth and development of all staff to build staff skills, knowledge, and expertise, and promote experience.

Prevention Research and Translation Branch (CUCPB). (1) Provides leadership, management, and coordination related to the planning, implementation, and evaluation of prevention research, research translation, and public health practice and policy development to address national health priorities, including leading causes of death, chronic diseases, and social determinants of health; (2) develops and manages funding mechanisms that allow programs across CDC fund applied public health research and translation that provide evidence that contributes to achieving specific programmatic goals; and (3) supports the research, dissemination, translation, and promotion of innovative and cross-cutting public health interventions, programs, and policies that improve physical, mental, and social dimensions of health and quality of life of people in community settings and workplaces, and through community and clinical partnerships.

Healthy Aging Branch (CUCPC). (1) Directs and supports program activities that improve quality of life and reduce chronic pain and disability; improve access to and availability of appropriate health care, evidence-based self-management approaches, and interventions; and enhance policies, environments, and referral systems for adults with arthritis; (2) directs and supports program activities that promote brain and cognitive health; improve risk reduction activities; increase early detection and access to appropriate health care; improve systems that support caregivers; and reduce preventable hospitalizations for adults with Alzheimer's disease or related dementias; (3) develops, collects, and reports epidemiologic surveillance measures; develops and evaluates programs, policies, interventions, and referral systems to enhance local, state, and tribal public health capacity; and promotes national public health action for arthritis, cognitive decline, Alzheimer's disease, related dementias, and other unaddressed chronic conditions of an aging population; and (4) develops and disseminates health promotion and disease prevention programs, communication messages and materials, and public health information that address prevention and interventions, social determinants of health, rural health issues, and racial/ethnic disparities in an aging U.S. population.

Epidemiology and Surveillance Branch (CUCPE). (1) Provides support to build national, state, and local public health capacity in epidemiology and surveillance to monitor chronic conditions and risk factors for public health programs and decision making; (2) develops and applies spatial analytic and small area estimation methods to identify geographic variations in chronic disease conditions and related risk factors for public health programming and decision making; (3) provides public health leadership in the prevention of excessive alcohol use and other chronic disease risk factors through public health surveillance, partnerships, and applied research for translation into public health practice; (4) provides public health leadership for epilepsy and other chronic conditions with significant impact on quality of life through surveillance and epidemiologic research, partnerships, applied research and translation, and development and evaluation of programs and interventions in order to expand the reach of evidence-based programs and practices and improve quality of life; and (5) conducts strategic and innovative scientific research on lupus and other evolving and cross-cutting disease issues including determining the burden, developing pilot programs and assessing effectiveness of public health approaches, and works with national, state and local partners to increase awareness, advance knowledge, and inform public health and health care practice.

Healthy Schools Branch (CUCPG) (1) Supports state, local, territorial, and tribal agencies and national non-governmental organizations to develop, implement, evaluate, and disseminate school policy, systems, and environmental strategies and interventions to improve the health of students and school staff by promoting healthy eating, physical activity, and a tobacco-free lifestyle; (2) supports implementation and evaluation of a coordinated approach to school health and best practices in health education; physical education and other physical activity programs; nutrition services; school health services; school counseling, psychological, and social services; health promotion for staff; family and community involvement; and school health and safety policies and environment; (3) provides leadership and consultation on how schools work and how to foster effective collaboration between the public health and education sectors; (4) documents and strengthens the scientific associations among chronic disease-related health risks, school-based health promotion initiatives, and academic achievement; (5) evaluates school-based policy, systems, and environmental changes and interventions to improve health behaviors and reduce chronic disease-related health risks among children and adolescents; (6) synthesizes and translates scientific research to develop and disseminate guidance, tools, and resources to help schools prevent chronic disease-related risks among children and adolescents; (7) supports efforts of national, state, and local surveillance systems to monitor chronic disease-related health risk behaviors among youth, along with the policies, programs, and practices schools implement to address those health risk behaviors; (8) strengthens efforts of national, state, and local programs to provide high quality professional development services to support school-based chronic disease prevention policies, programs, and practices; (9) in accomplishing the functions listed above, collaborates with other components of CDC and HHS; the U.S. Department of Education, U.S. Department of Agriculture, and other federal agencies; national professional, voluntary, and philanthropic organizations; international agencies; and other organizations as appropriate; and(10) assists other nations in reducing chronic disease-related health risks among children and adolescents and in implementing and improving school health programs.

Population Health Surveillance Branch (CUCPH). (1) Plans and directs all activities related to the Behavioral Risk Factor Surveillance System (BRFSS), the nation's premier system of health surveys that collect state data about United States residents regarding their health-related risk behaviors, chronic health conditions, and use of preventive services; (2) coordinates BRFSS surveillance activities across all states and CDC programs; (3) provides support to build state capacity for BRFSS survey operations, data management, analysis, dissemination, and use of the data by state agencies to set public health priorities and monitor public health programs; (4) develops guidelines and criteria for the enhancement of behavioral risk factor surveys at the state and local levels; (5) delivers timely health data of high validity and reliability to states, CDC scientists, the national public health community, and the general public; (6) supports and enhances analysis and dissemination of information from the BRFSS to promote the broad use and application of BRFSS results and findings by policy and decision makers, public health professionals, and other relevant audiences through communication channels and formats appropriate to these constituencies; (7) plans and coordinates cross cutting research related to survey methodology; (8) provides scientific leadership and guidance to surveillance programs to assure highest scientific quality and professional standards related to BRFSS; (9) provides leadership to CDC, states and other organizations to support effective and flexible population health surveillance, including rapidly emerging public health issues and threats; and (10) provides administrative and management support, as required, for states and territories including oversight of BRFSS and other grants, cooperative agreements, and reimbursable agreements.

Retitle HIV Surveillance (CVJCE) to HIV Surveillance Branch.

Retitle HIV Prevention Capacity and Development Branch (CVJCH) to HIV Prevention Capacity Development Branch.

Dia Taylor,
Chief Operating Officer (Acting), Centers for Disease Control and Prevention.

[FR Doc. 2021-14341 Filed 7-2-21; 8:45 am]

BILLING CODE 4160-18-P